DEPARTMENT OF ENERGY

Office of Energy Efficiency and Renewable Energy

[Docket Number EERE-2011-BT-NOA-0039]

Technology Evaluation Process

AGENCY: Office of Energy Efficiency and Renewable Energy, Department of Energy.

ACTION: Notice of request for information (RFI) comment period extension.

SUMMARY: This is an extension of a prior RFI seeking comment on a proposed commercial buildings technology evaluation process. The stakeholder comment period is being extended an additional 30 days to give potential participants additional time to provide responses and comments on the information contained within the RFI.

DOE seeks comments and information related to a commercial buildings technology evaluation process. DOE is seeking to create a process for evaluating emerging and underutilized energy efficient technologies for commercial buildings based on the voluntary submittal of product test data. The program would be centered on a publicly accessible listing of products that meet minimum energy efficiency criteria specified for the applicable technology type. Evaluation under the criteria would be based on product test data submitted by manufacturers, then analyzed by DOE to generate information related to the energy savings of the products. For those products that met the specified minimum energy efficiency criteria, the results of such analyses would be made publicly available. The program would provide centralized information on the analysis factors in a manner that would make results directly comparable between products within the same technology type or area.

DATES: Written comments and information are requested on or before July 27, 2011.

ADDRESSES: Interested persons may submit comments, identified by docket number EERE-2011-BT-NOA-0039, by any of the following methods. Your response should be limited to 3 pages. Questions relative to responding to this RFI may be sent to the same mailbox in advance of your response, and will be answered via e-mail.

• E-mail: to TechID-RFI-2011-NOA-0039@ee.doe.gov. Include EERE-2011-BT- NOA-0039 in the subject line of the message.

• Mail: Ms. Brenda Edwards, U.S. Department of Energy, Building Technologies Program, Mailstop EE-2J, Revisions to Energy Efficiency Enforcement Regulations, EERE-2011-BT- NOA-0039, 1000 Independence Avenue, SW., Washington, DC 20585- 0121. Phone: (202) 586-2945. Please submit one signed paper original.

• Hand Delivery/Courier: Ms. Brenda Edwards, U.S. Department of Energy, Building Technologies Program, 6th Floor, 950 L'Enfant Plaza, SW., Washington, DC 20024. Phone: (202) 586-2945. Please submit one signed paper original.

Instructions: All submissions received must include the agency name and docket number.

FOR FURTHER INFORMATION CONTACT: Direct requests for additional information may be sent to Mr. Alan Schroeder, U.S. Department of Energy, Office of Energy Efficiency and Renewable Energy, Building Technologies Program, EE-2J, 1000 Independence Avenue, SW., Washington, DC 20585-0121. Telephone: 202-586-0158. E-mail: Alan.Schroeder@ee.doe.gov.

SUPPLEMENTARY INFORMATION:

Request for Comment

On May 26, 2011, the U.S. Department of Energy (DOE) issued an RFI regarding a process for evaluating emerging and underutilized energy efficient technologies for commercial buildings based on the voluntary submittal of product test data. 76 FR 30696. As explained in the RFI, the program would be centered on a publicly accessible listing of products that meet minimum energy efficiency criteria specified for the applicable technology type. Evaluation under the criteria would be based on product test data submitted by manufacturers, then analyzed by DOE to generate information related to the energy savings of the products. For those products that met the specified minimum energy efficiency criteria, the results of such analyses would be made publicly available. The program would provide centralized information on the analysis factors in a manner that would make results directly comparable between products within the same technology type or area.

The RFI originally provided June 27, 2011, as the date by which comments were to be submitted. DOE is extending the comment period until July 27, 2011. The May 26, 2011 RFI provides additional detail on the program under consideration as well as the specific questions on which DOE is seeking comment.

Disclaimer and Important Notes

The RFI has been issued solely for information and program planning purposes; the RFI does not constitute a formal solicitation for proposals or abstracts. Responses to the RFI will be treated as information only. DOE will not provide reimbursement for costs incurred in responding to the RFI. Respondents are advised that DOE is under no obligation to acknowledge receipt of the information received or provide feedback to respondents with respect to any information submitted under the RFI. Responses to the RFI do not bind DOE to any further actions related to this topic.

Confidential Business Information

According to 10 CFR 1004.11, any person submitting information he or she believes to be confidential and exempt by law from public disclosure should submit via e-mail, postal mail, or hand delivery/courier two well-marked copies: One copy of the document marked confidential including all the information believed to be confidential, and one copy of the document marked non-confidential with the information believed to be confidential deleted. Submit these documents via e-mail or on a CD, if feasible. DOE will make its own determination about the confidential status of the information and treat it according to its determination.

Factors of interest to DOE when evaluating requests to treat submitted information as confidential include: (1) A description of the items; (2) whether and why such items are customarily treated as confidential within the industry; (3) whether the information is generally known by or available from other sources; (4) whether the information has previously been made available to others without obligation concerning its confidentiality; (5) an explanation of the competitive injury to the submitting person which would result from public disclosure; (6) when such information might lose its confidential character due to the passage of time; and (7) why disclosure of the information would be contrary to the public interest.

It is DOE's policy that all comments may be included in the public docket, without change and as received, including any personal information provided in the comments (except information deemed to be exempt from public disclosure).

Issued in Washington, DC, on June 21, 2011.
Kathleen B. Hogan,
Deputy Assistant Secretary for Energy Efficiency, Office of Technology Development, Energy Efficiency and Renewable Energy.

[FR Doc. 2011-16012 Filed 6-24-11; 8:45 am]

BILLING CODE 6450-01-P